DEPARTMENT OF AGRICULTURE

Rural Business-Cooperative Service

Notice of Funding Availability for the Rural Energy for America Program

AGENCY: Rural Business-Cooperative Service, USDA.

ACTION: Notice.

SUMMARY: This Notice of Funding Availability (NOFA) announces the acceptance of applications under the Rural Energy for America Program (REAP) for Fiscal Year 2013 for financial assistance as follows: grants, guaranteed loans, and combined grants and guaranteed loans for the development and construction of renewable energy systems and for energy efficiency improvement projects; and grants for conducting renewable energy system feasibility studies. The Notice also announces the availability of up to $20.8 million of Fiscal Year 2013 budget authority to fund these REAP activities, which will support up to $10.4 million in grant program level and up to $43.4 million in guaranteed loan program level.

DATES: In order to be considered for Fiscal Year 2013 funds, complete applications under this Notice must be received by the appropriate USDA Rural Development State Office no later than 4:30 p.m. local time of the dates as follows:

For renewable energy system and energy efficiency improvement grant applications and combination grant and guaranteed loan applications: April 30, 2013.

For renewable energy system and energy efficiency improvement guaranteed loan only applications: On a continuous basis up to July 15, 2013.

For renewable energy system feasibility study applications: April 30, 2013.

Energy audits and renewable energy development assistance, grant funding will not be available for Fiscal Year 2013, due to the statutory timeframe to award and obligate funds by April 1, 2013.

ADDRESSES: See the SUPPLEMENTARY INFORMATION for addresses concerning applications for the Rural Energy for America Program for Fiscal Year 2013 funds.

FOR FURTHER INFORMATION CONTACT: For information about this Notice, please contact Mr. Kelley Oehler, Branch Chief, USDA Rural Development, Energy Division, 1400 Independence Avenue SW., Washington, DC 20250. Telephone: (202) 720-6819. Email: kelley.oehler@wdc.usda.gov.

For further information on this program, please contact the applicable USDA Rural Development Energy Coordinator for your respective State, as provided in the SUPPLEMENTARY INFORMATION section of this Notice.

SUPPLEMENTARY INFORMATION:

Fiscal Year 2013 Applications for the Rural Energy for America Program

Applications. Application materials may be obtained by contacting one of Rural Development's Energy Coordinators. In addition, for grant applications, applicants may access the electronic grant application for the Rural Energy for America Program at http://www.grants.gov. To locate the downloadable application package for this program, the applicant must use the program's Catalog of Federal Domestic Assistance (CFDA) Number 10.868 or FedGrants Funding Opportunity Number, which can be found at http://www.grants.gov.

Application submittal. For renewable energy system, energy efficiency improvement, and feasibility study applications, submit complete paper applications to the Rural Development State Office in the State in which the applicant's proposed project is located.

Submit electronic grant only applications at http://www.grants.gov, following the instructions found on this Web site.

Rural Development Energy Coordinators

Note: Telephone numbers listed are not toll-free.

Alabama

Marcia Johnson, USDA Rural Development, Suite 601, Sterling Centre, 4121 Carmichael Road, Montgomery, AL 36106-3683, (334) 279-3453, marcia.johnson@al.usda.gov

Alaska

Chad Stovall, USDA Rural Development, 800 West Evergreen, Suite 201, Palmer, AK 99645-6539, (907) 761-7718, chad.stovall@ak.usda.gov

American Samoa (See Hawaii)

Arizona

Gary Mack, USDA Rural Development, 230 North First Avenue, Suite 206, Phoenix, AZ 85003-1706, (602) 280-8717, gary.mack@az.usda.gov

Arkansas

Laura Tucker, USDA Rural Development, 700 West Capitol Avenue, Room 3416, Little Rock, AR 72201-3225, (501) 301-3280, laura.tucker@ar.usda.gov

California

Steven Nicholls, USDA Rural Development, 430 G Street, #4169, Davis, CA 95616, (530) 792-5805, steven.nicholls@ca.usda.gov

Colorado

Janice Pond, USDA Rural Development, Denver Federal Center, Building 56, Room 2300, P.O. Box 25426, Denver, CO 80225-0426, (720) 544-2907, janice.pond@co.usda.gov

Commonwealth of the Northern Marianas Islands—CNMI (See Hawaii)

Connecticut (see Massachusetts)

Delaware/Maryland

Bruce Weaver, USDA Rural Development, 1221 College Park Drive, Suite 200, Dover, DE 19904, (302) 857-3629, bruce.weaver@de.usda.gov

Federated States of Micronesia (See Hawaii)

Florida/Virgin Islands

Angela Prioleau, USDA Rural Development, 4440 NW. 25th Place, Gainesville, FL 32606, (352) 338-3412, angela.prioleua@fl.usda.gov

Georgia

J. Craig Scroggs, USDA Rural Development, 111 E. Spring St., Suite B, Monroe, GA 30655, (770) 267-1413, ext. 113, craig.scroggs@ga.usda.gov

Guam (See Hawaii)

Hawaii

Hawaii/Guam/Republic of Palau/Federated States of Micronesia/Republic of the Marshall Islands/American Samoa/Commonwealth of the Northern Marianas Islands—CNMI

Tim O'Connell, USDA Rural Development, Federal Building, Room 311, 154 Waianuenue Avenue, Hilo, HI 96720, (808) 933-8313, tim.oconnell@hi.usda.gov

Idaho

Brian Buch, USDA Rural Development, 9173 W. Barnes Drive, Suite A1, Boise, ID 83709, (208) 378-5623, brian.buch@id.usda.gov

Illinois

Mary Warren, USDA Rural Development, 2118 West Park Court, Suite A, Champaign, IL 61821, (217) 403-6218, mary.warren@il.usda.gov

Indiana

Jerry Hay, USDA Rural Development, 5975 Lakeside Boulevard, Indianapolis, IN 46278, (812) 346-3411, ext. 126, jerry.hay@in.usda.gov

Iowa

Kate Sand, USDA Rural Development, 909 E. 2nd Avenue, Suite C, Indianola, IA 50125, (515) 961-5365, ext.130, kate.sand@ia.usda.gov

Kansas

David Kramer, USDA Rural Development, 1303 SW. First American Place, Suite 100, Topeka, KS 66604-4040, (785) 271-2736, david.kramer@ks.usda.gov

Kentucky

Scott Maas, USDA Rural Development, 771 Corporate Drive, Suite 200, Lexington, KY 40503, (859) 224-7435, scott.maas@ky.usda.gov

Louisiana

Kevin Boone, USDA Rural Development, 905 Jefferson Street, Suite 320, Lafayette, LA 70501, (337) 262-6601, ext. 133, kevin.boone@la.usda.gov

Maine

Beverly Stone, USDA Rural Development, 967 Illinois Avenue, Suite 4, P.O. Box 405, Bangor, ME 04402-0405, (207) 990-9125, beverly.stone@me.usda.gov

Maryland (see Delaware)

Massachusetts/Rhode Island/Connecticut

Anne Correia, USDA Rural Development, 15 Cranberry Highway, West Wareham, MA 01002, (508) 295-5151, ext. 3, anne.correia@ma.usda.gov

Michigan

Rick Vanderbeek, USDA Rural Development, 3001 Coolidge Road, Suite 200, East Lansing, MI 48823, (517) 324-5157, rick.vanderbeek@mi.usda.gov

Minnesota

Ron Omann, USDA Rural Development, 375 Jackson St., Suite 410, St. Paul, MN 55101, (651) 602-7796, ron.omann@mn.usda.gov

Mississippi

G. Gary Jones, USDA Rural Development, 100 W. Capital Street, Suite 831,Jackson, MS 39269, (601) 965-5457, george.jones@ms.usda.gov

Missouri

Matt Moore, USDA Rural Development, 601 Business Loop 70 West, Parkade Center, Suite 235, Columbia, MO 65203, (573) 876-9321, matt.moore@mo.usda.gov

Montana

Bill Barr, USDA Rural Development, 2229 Boot Hill Court, P.O. Box 850, Bozeman, MT 59771, (406) 585-2545, bill.barr@mt.usda.gov

Nebraska

Debra Yocum, USDA Rural Development, 100 Centennial Mall North, Room 152, Federal Building, Lincoln, NE 68508, (402) 437-5554, debra.yocum@ne.usda.gov

Nevada

Mark Williams, USDA Rural Development, 1390 South Curry Street, Carson City, NV 89703, (775) 887-1222, ext. 116, mark.williams@nv.usda.gov

New Hampshire (See Vermont)

New Jersey

Victoria Fekete, USDA Rural Development, 8000 Midlantic Drive, 5th Floor North, Suite 500, Mt. Laurel, NJ 08054, (856) 787-7752, victoria.fekete@nj.usda.gov

New Mexico

Jesse Bopp, USDA Rural Development, 6200 Jefferson Street, NE., Room 255, Albuquerque, NM 87109, (505) 761-4952, jesse.bopp@nm.usda.gov

New York

Scott Collins, USDA Rural Development, 9025 River Road, Marcy, NY 13403, (315) 736-3316, ext. 4, scott.collins@ny.usda.gov

North Carolina

David Thigpen, USDA Rural Development, 4405 Bland Rd. Suite 260, Raleigh, NC 27609, (919) 873-2065, david.thigpen@nc.usda.gov

North Dakota

Dennis Rodin, USDA Rural Development, Federal Building, Room 208, 220 East Rosser Avenue, P.O. Box 1737, Bismarck, ND 58502-1737, (701) 530-2068, dennis.rodin@nd.usda.gov

Ohio

Randy Monhemius, USDA Rural Development, Federal Building, Room 507, 200 North High Street, Columbus, OH 43215-2418, (614) 255-2424, randy.monhemius@oh.usda.gov

Oklahoma

Jody Harris, USDA Rural Development, 100 USDA, Suite 108, Stillwater, OK 74074-2654, (405) 742-1036, jody.harris@ok.usda.gov

Oregon

Don Hollis, USDA Rural Development, 200 SE Hailey Ave, Suite 105, Pendleton, OR 97801, (541) 278-8049, ext. 129, don.hollis@or.usda.gov

Pennsylvania

Amanda Krugh, USDA Rural Development, 1 Credit Union Place, Suite 330, Harrisburg, PA 17110-2996, (717) 237-2289, amanda.krugh@pa.usda.gov

Puerto Rico

Luis Garcia, USDA Rural Development, IBM Building, 654 Munoz Rivera Avenue, Suite 601, Hato Rey, PR 00918-6106, (787) 766-5091, ext. 251, luis.garcia@pr.usda.gov

Republic of Palau (See Hawaii)

Republic of the Marshall Islands (See Hawaii)

Rhode Island (see Massachusetts)

South Carolina

Shannon Legree, USDA Rural Development, Strom Thurmond Federal Building, 1835 Assembly Street, Room 1007, Columbia, SC 29201, (803) 253-3150, shannon.legree@sc.usda.gov

South Dakota

Darlene Bresson USDA Rural Development, 1720 4th Street, NE., Suite 2, Watertown, SD 57201 (605) 886-8202, ext. 120, darlene.bresson@sd.usda.gov

Tennessee

Will Dodson, USDA Rural Development, 3322 West End Avenue, Suite 300, Nashville, TN 37203-1084, (615) 783-1350, will.dodson@tn.usda.gov

Texas

Billy Curb, USDA Rural Development, Federal Building, Suite 102, 101 South Main Street, Temple, TX 76501, (254) 742-9775, billy.curb@tx.usda.gov

Utah

Perry Mathews, USDA Rural Development, Wallace F. Bennett Federal Building, 125 South State Street, Room 4311, Salt Lake City, UT 84138, (801) 524-4301, perry.mathews@ut.usda.gov

Vermont/New Hampshire

Cheryl Ducharme, USDA Rural Development, 89 Main Street, 3rd Floor, Montpelier, VT 05602, (802) 828-6083, cheryl.ducharme@vt.usda.gov

Virginia

Laurette Tucker, USDA Rural Development, Culpeper Building, Suite 238, 1606 Santa Rosa Road, Richmond, VA 23229, (804) 287-1594, laurette.tucker@va.usda.gov

Virgin Islands (see Florida)

Washington

Mary Traxler, USDA Rural Development, 1835 Black Lake Blvd. SW., Suite B, Olympia, WA 98512, (360) 704-7762, mary.traxler@wa.usda.gov

West Virginia

Lisa Sharp, USDA Rural Development, 1550 Earl Core Road, Suite 101, Morgantown, WV 26505-7500, (304) 284-4871, lisa.sharp@wv.usda.gov

Wisconsin

Brenda Heinen, USDA Rural Development, 4949 Kirschling Court, Stevens Point, WI 54481, (715) 345-7615, Ext. 139, brenda.heinen@wi.usda.gov

Wyoming

Nancy Veres, USDA Rural Development, Dick Cheney Federal Building, 100 East B Street, Room 1005, P.O. Box 11005, Casper, WY 82602, (307) 233-6710, nancy.veres@wy.usda.gov.

Paperwork Reduction Act

In accordance with the Paperwork Reduction Act of 1995, the information collection requirements associated with renewable energy system and energy efficiency improvement grants and guaranteed loans, as covered in this Notice, has been approved by the Office of Management and Budget (OMB) under OMB Control Number 0570-0050. The information collection requirements associated with renewable energy feasibility study grants has also been approved by OMB Control Number 0570-0061, respectively.

Overview

Federal Agency Name: Rural Business-Cooperative Service.

Contract Proposal Title: Rural Energy for America Program.

Announcement Type: Initial announcement.

Catalog of Federal Domestic Assistance Number. 10.868.

Dates: In order to be considered for Fiscal Year 2013 funds, complete applications under this Notice must be received by the appropriate USDA Rural Development State Office no later than 4:30 p.m. local time of the dates as follows:

For renewable energy system and energy efficiency improvement grant applications and combination grant and guaranteed loan applications: April 30, 2013.

For renewable energy system and energy efficiency improvement guaranteed loan only applications: On a continuous basis up to July 15, 2013.

For renewable energy system feasibility study applications: April 30, 2013.

Energy audits and renewable energy development assistance grants, grant funding will not be available for Fiscal Year 2013, due to the statutory timeframe to award and obligate funds by April 1, 2013.

Any application received after its applicable date and time, regardless of the postmark on the application, will not be considered for Fiscal Year 2013 funds.

Availability of Notice. This Notice for the Rural Energy for America Program is available through the USDA Rural Development Web site at http://www.rurdev.usda.gov/BCP_Reap.html.

I. Funding Opportunity Description

A. Purpose of the Rural Energy for America Program. The program is designed to help agricultural producers and rural small businesses reduce energy costs and consumption and help meet the Nation's critical energy needs.

B. Statutory Authority. This program is authorized under 7 U.S.C. 8107.

C. Definition of Terms. The definitions applicable to this Notice are published at 7 CFR 4280.103. In addition, the following definition applies to this Notice.

Hybrid. A combination of two or more renewable energy technologies that are incorporated into a unified system to support a single project.

II. Award Information

A. Available funds. The amount of funds available for renewable energy systems and energy efficiency improvements in Fiscal Year 2013 will be up to $53.6 million. For renewable energy system and energy efficiency improvement projects only, there will be an allocation of funds to each State, and the Rural Development's National Office will maintain a reserve of funds.

The amount of grant funds available for renewable energy system feasibility studies in Fiscal Year 2013 will be up to $250,000. The balance of the funds unused for the feasibility study grants may be utilized in any of the renewable energy system and energy efficiency improvement National competitions.

In order to ensure that small projects have a fair opportunity to compete for the funding and are consistent with the priorities set forth in the statute, the Agency will set-aside up to $4.1 million to fund grants of $20,000 or less. Obligations of these funds will take place through June 30, 2013. Any unobligated balances will be moved to the renewable energy budget authority account as of July 1, 2013. These funds may be utilized in any of the renewable energy system and energy efficiency improvement National competitions.

B. Approximate number of awards. The number of awards will depend on the amount of funds made available and on the number of eligible applicants participating in this program.

C. State and National competitions. Renewable energy system and energy efficiency improvement applications for Fiscal Year 2013 funds will compete for funds allocated to their State for competition. Separate competitions will be held for (1) grant only and grant and guaranteed loan combination applications; (2) grants of $20,000 or less applications, and (3) guaranteed loan only applications. Grant only and grant and guaranteed loan combination applications and grants of $20,000 or less applications will each have one State competition. All unfunded eligible grant only and grant and guaranteed loan combination applications received by April 30, 2013, will be competing against other grant only and grant and guaranteed loan combination applications from other States at a final National competition. However, the Agency reserves the right to hold a separate National competition for grants of $20,000 or less if funding remains after the State competition. Obligations of these funds will take place through June 30, 2013. State competitions will be held bi-weekly for guaranteed loan only applications. A minimum score of 50 is required for guaranteed loan only applications to compete in the State competitions. If a State does not have sufficient funds to make a guaranteed loan award, funding may be obtained from the guaranteed loan reserves held at the National Office. The guaranteed loan application will not have to compete any further. Finally, all unfunded eligible guaranteed loan only applications received by July 15, 2013, will be competed against other guaranteed loan only applications from other States at a final National competition if the guaranteed loan reserves have not been completely depleted. If funds remain after the final guaranteed loan only National competition, the Agency may elect to utilize budget authority to fund additional grant only and grant and guaranteed loan combination applications that competed in the National competition. Renewable energy system feasibility study grant applications will compete in separate National competition.

D. Type of instrument. Grant, guaranteed loan, and grant/guaranteed loan combinations.

E. Funding limitations. The following funding limitations apply to applications submitted under this Notice.

(1) Maximum grant assistance to an entity. For the purposes of this Notice, the maximum amount of grant assistance to an entity will not exceed $750,000 for Fiscal Year 2013 based on the total amount of renewable energy system, energy efficiency improvement, and renewable energy feasibility study grants awarded to an entity under the Rural Energy for America Program.

(2) Maximum percentage of Agency funding. The REAP authorizing statute at 7 USC 8107 mandates the maximum percentages of funding that USDA Rural Development will provide. Within the maximum funding amounts specified in this Notice, renewable energy system and energy efficiency improvement funding approved for guaranteed loan only requests and for combination guaranteed loan and grant requests will not exceed 75 percent of eligible project costs, with the grant portion not to exceed 25 percent of total eligible project costs, whether the grant is part of a combination request or is a stand-alone grant.

(3) Reallocation of loan and grants funds. The Agency reserves the right, at its discretion, to move funds between grant and loan budget authority after June 29, 2013, based upon the demand of applications received under this Notice.

(4) Universal identifier and System for Awards Management (SAM). Unless exempt under 2 CFR 25.110, all grant applicants must:

(a) Be registered in the SAM prior to submitting a grant application or plan;

(b) Maintain an active SAM registration with current information at all times during which it has an active Federal award or grant application or plan under consideration by the Agency; and

(c) Provide its Dun and Bradstreet Data Universal Numbering System (DUNS) number in each grant application or plan it submits to the Agency.

(5) Transparency Act Reporting. All recipients of Federal financial assistance are required to report information about first-tier subawards and executive compensation in accordance with 2 CFR part 170. So long as an entity applicant does not have an exception under 2 CFR 170.110(b), the applicant must have the necessary processes and systems in place to comply with the reporting requirements should the applicant receive funding. See 2 CFR 170.200(b).

(6) Renewable energy system and energy efficiency improvement grant-only applications. For renewable energy system grants, the minimum grant is $2,500 and the maximum is $500,000. For energy efficiency improvement grants, the minimum grant is $1,500 and the maximum grant is $250,000.

(7) Renewable energy system and energy efficiency improvement loan guarantee-only applications. For renewable energy system and energy efficiency improvement loan guarantees, the minimum guaranteed loan amount is $5,000 and the maximum amount of a guaranteed loan to be provided to a borrower is $25 million.

(8) Renewable energy system and energy efficiency improvement guaranteed loan and grant combination applications. Funding for grant and loan combination packages for renewable energy systems and energy efficiency improvement projects are subject to the funding limitations specified in Section II.E.(2). The maximum amount for the grant portion is $500,000 for renewable energy systems and $250,000 for energy efficiency improvements. The minimum amount of the grant portion is $1,500 for either renewable energy systems or energy efficiency improvements. For the guarantee portion, the maximum amount is $25 million and the minimum amount is $5,000.

(9) Renewable energy system feasibility study grant applications. The maximum amount of grant funds that will be made available for an eligible feasibility study project under this subpart to any one recipient will not exceed $50,000 or 25 percent of the total eligible project cost of the study, whichever is less.

(10) Felony Conviction and Tax Delinquent Status. Applications from corporate applicants submitted under this Notice must include Form AD 3030 Representations Regarding Felony Conviction and Tax Delinquent Status for Corporate Applicants. Corporate applicants who receive an award under this Notice will be required to sign Form AD 3031 Assurance Regarding Felony Conviction or Tax Delinquent Status for Corporate Applicants. Both forms can be found online at http://www.ocio.usda.gov/forms/ocio_forms.html.

III. Eligibility Information

A. Eligible applicants. To be eligible for this program, an applicant must meet the eligibility requirements specified in 7 CFR 4280.109, 7 CFR 4280.110(c), and, as applicable, 7 CFR 4280.112, 7 CFR 4280.122, 7 CFR 4280.170, or 7 CFR 4280.186.

For the purpose of this Notice, and in addition to meeting the small business size determination as defined under small business in 7 CFR 4280.103, rural small business applicants must demonstrate that the majority (i.e., 51 percent or more) of their past 3 years' annual receipts from their business operation are derived from a rural area. If the rural small business applicant has not engaged in business operations for the past 3 years, then information for as long as the rural small business applicant has been in business must be submitted. To ensure that there is sufficient information for the Agency to make this determination; rural small business applicants, as part of their application requirements in 7 CFR 4280.116(b)(v)(A), should list the physical address, total annual receipts and number of employees for each urban or rural location. The Agency will make this determination for rural small business applicants that do not have any annual receipts (new businesses only) on the location of the rural small business applicant.

B. Eligible lenders. To be eligible for this program, lenders must meet the eligibility requirements in 7 CFR 4280.130.

C. Eligible projects. To be eligible for this program, a project must meet the eligibility requirements specified in 7 CFR 4280.113, 7 CFR 4280.123, 7 CFR 4280.171, and 7 CFR 4280.187, as applicable.

IV. Fiscal Year 2013 Application and Submission Information

Applicants seeking to participate in this program must submit applications in accordance with this Notice and 7 CFR part 4280, subpart B, as applicable. Applicants must submit complete applications containing all parts necessary for the Agency to determine applicant and project eligibility, to score the application, and to conduct the technical evaluation, as applicable in order to be considered. Due to the competitive nature of this program, information received by the Agency, that would impact the priority score and ranking of an application in Fiscal Year 2013 competitions cannot be considered by the Agency if received after the dates published in the Dates section of this Notice.

A. Where To Obtain Applications

Applicants may obtain applications from any USDA Rural Development Energy Coordinator, as provided in the SUPPLEMENTARY INFORMATION section of this Notice. In addition, for grant applications, applicants may access the electronic grant application for the Rural Energy for America Program at http://www.grants.gov. To locate the downloadable application package for this program, the applicant must use the program's CFDA Number 10.868 or FedGrants Funding Opportunity Number, which can be found at http://www.grants.gov.

When you enter the grants.gov site, you will find information about submitting an application electronically through the site. To use grants.gov, all applicants must have a Dun and Bradstreet Data Universal Numbering System (DUNS) number (unless the applicant is an individual), which can be obtained at no cost via a toll-free request line at 1-866-705-5711 or online at http://fedgov.dnb.com/webform. USDA Rural Development strongly recommends that applicants do not wait until the application deadline date to begin the application process through grants.gov.

B. When To Submit

Complete applications submitted under this Notice must be received by the appropriate USDA Rural Development State Office no later than 4:30 p.m. local time on the applicable date as identified in the DATES section of this Notice, in order to be considered for Fiscal Year 2013 funds. Any application received after 4:30 p.m. local time on the applicable date, regardless of the postmark on the application, will not be considered for Fiscal Year 2013 funds.

C. Where To Submit

All renewable energy system, energy efficiency improvement, and renewable energy system feasibility study applications are to be submitted to the USDA Rural Development Energy Coordinator in the State in which the applicant's proposed project is located. A list of USDA Rural Development Energy Coordinators is provided in the SUPPLEMENTARY INFORMATION section of this Notice. Alternatively, for grant only applications, applicants may submit their electronic applications to the Agency via the grants.gov Web site.

D. How To Submit

Applicants may submit their applications either as hard copy or electronically as specified in the following paragraphs. When submitting an application as hard copy, applicants must submit one original.

(1) Grant applications. All grant applications may be submitted either as hard copy to the appropriate Rural Development Energy Coordinator or electronically using the Government-wide grants.gov Web site. Users of grants.gov who download a copy of the application package may complete it off line and then upload and submit the application via the grants.gov site, including all information typically included on the application, and all necessary assurances and certifications. After electronically submitting an application through the Web site, the applicant will receive an automated acknowledgement from grants.gov that contains a grants.gov tracking number.

(2) Guaranteed loan applications. Guaranteed loan only applications (i.e., those that are not part of a guaranteed loan/grant combination request) must be submitted as hard copy.

(3) Guaranteed loan/grant combination applications. Applications for guaranteed loans/grants (combination applications) must be submitted as hard copy.

E. Other Submission Requirements and Information

(1) Application restrictions. Applicants may only submit one renewable energy system and one energy efficiency improvement application in Fiscal Year 2013. A renewable energy system application cannot be submitted in Fiscal Year 2013 if a REAP feasibility study grant application for the same renewable energy system is submitted in Fiscal Year 2013 and vice versa.

Applicants may only submit one renewable energy system feasibility study application for Fiscal Year 2013 funds.

(2) Environmental information. For the Agency to consider an application, the application must include all environmental review documents with supporting documentation in accordance with 7 CFR part 1940, subpart G. Applications for financial assistance for planning purposes or management and feasibility studies are typically categorically excluded from the environmental review process by 7 CFR 1940.310(e)(1). Any required environmental review must be completed in full prior to obligation of funds or the approval of the application.

(3) Original signatures. USDA Rural Development may request that the applicant provide original signatures on forms submitted through grants.gov at a later date.

(4) Form AD 2106. Each applicant is requested to submit Form AD 2106, “Form to Assist in Assessment of USDA Compliance with Civil Rights Laws,” with their application. This form requests information on the applicant's race, ethnicity, and gender. The information contained in this form will allow the Agency to evaluate its outreach efforts to under-served and under-represented populations. Applicants are encouraged to furnish this form and the information requested with their application, but are not required to do so. Not furnishing this information will neither affect an applicant's eligibility nor the likelihood of an applicant receiving an award.

This form is available from any USDA Rural Development Energy Coordinator, as provided in the SUPPLEMENTARY INFORMATION section of this Notice, and from http://forms.sc.egov.usda.gov/eForms/welcomeAction.do?Home.

(5) Award considerations. In determining the amount of a renewable energy system or energy efficiency improvement grant or loan guarantee, the Agency will consider the six criteria specified in 7 CFR 4280.115(g) or 7 CFR 4280.124(f), as applicable.

(6) Hybrid projects. If the application is for a hybrid project, technical reports, as required under 7 CFR 4280.116(b)(7), must be prepared for each technology that comprises the hybrid project.

(7) Multiple facilities. Applicants may submit a single application that proposes to apply the same renewable energy system (including the same hybrid project) or energy efficiency improvement across multiple facilities. For example, a rural small business owner owns five retail stores and wishes to install solar panels on each store. The rural small business owner may submit a single application for installing the solar panels on the five stores. However, if this same owner wishes to install solar panels on three of the five stores and wind turbines for the other two stores, the owner can only submit an application for either the solar panels or for the wind turbines in the same fiscal year.

V. Program Provisions

This section of the Notice identifies the provisions of 7 CFR part 4280, subpart B applicable to each type of funding available under REAP.

A. General

The provisions specified in 7 CFR 4280.101 through 4280.111 apply to this Notice.

B. Renewable Energy System and Energy Efficiency Improvement Project Grants

In addition to the other provisions of this Notice, the requirements specified in 7 CFR 4280.112 through 4280.121 apply to renewable energy system and energy efficiency improvement projects grants.

C. Renewable Energy System and Energy Efficiency Improvement Project Guaranteed Loans

In addition to the other provisions of this Notice, the requirements specified in 7 CFR 4280.122 through 4280.160 apply to guaranteed loans for renewable energy system and energy efficiency improvement projects. For Fiscal Year 2013, the guarantee fee amount is 1 percent of the guaranteed portion of the loan and the annual renewal fee is 0.250 percent (one-quarter of 1 percent) of the guaranteed portion of the loan.

D. Renewable Energy System and Energy Efficiency Improvement Project Grant and Guaranteed Loan Combined Requests

In addition to the other provisions of this Notice, the requirements specified in 7 CFR 4280.165 apply to a combined grant and guaranteed loan for renewable energy system and energy efficiency improvement projects. Any applicant that submits a combined grant and guaranteed loan application will not be allowed to modify their application to a grant only or guaranteed loan only application after the applicable submission date and time, as identified in the DATES section of this Notice, and remain eligible for Fiscal Year 2013 funds.

E. Renewable Energy System Feasibility Study Grants

In addition to the other provisions of this Notice, the requirements specified in 7 CFR 4280.170 through 4280.182 apply to renewable energy system feasibility study grants. Feasibility studies are required to be prepared by an independent, qualified third party consultant. Applicants cannot prepare their own feasibility study.

F. Resubmittal of Fiscal Year 2012 Renewable Energy System and Energy Efficiency Improvement Applications

If an application for a project was submitted for the first time in Fiscal Year 2012 and that initial application was determined eligible but was not funded, the Agency will consider that initial Fiscal Year 2012 application for funding in Fiscal Year 2013 as provided in this section. If an applicant has already re-submitted in an earlier fiscal year (i.e. initial application was submitted in Fiscal Year 2011 or earlier), the applicant must submit a new application meeting the requirements of this Notice in order to be considered for Fiscal Year 2013 funds for that project and a new submission date of record will be established.

(1) Written request. An applicant must submit a written request for the Agency to consider its Fiscal Year 2012 application for Fiscal Year 2013 funds.

(i) For a guarantee loan and grant combination application, both the lender and grant applicant must submit the written request to the Agency in order to be considered for Fiscal Year 2013 funds.

(ii) Except for simplified applications, the applicant must provide, with the written request, the applicant's current balance sheet and income statement that meets the program requirements outlined in 7 CFR 4280.116(b)(4). Notwithstanding the requirements outlined in 7 CFR 4280.116(b)(4), the current balance sheet and income statement must not be more than 90 days old relative to the date the applicant submits the written request.

(iii) The Agency is requesting that each applicant submit Form AD 2106, “Form to Assist in Assessment of USDA Compliance with Civil Rights Laws,” with their written request. This form requests information on the applicant's race, ethnicity, and gender. The information contained in this form will allow the Agency to evaluate its outreach efforts to under-served and under-represented populations. Applicants are encouraged to furnish this form and the information requested with their application, but are not required to do so. An applicant's eligibility or the likelihood of receiving an award will not be impacted by furnishing or not furnishing this information. This form is available from any USDA Rural Development Energy Coordinator, as provided in the SUPPLEMENTARY INFORMATION section of this Notice, and from http://forms.sc.egov.usda.gov/eForms/welcomeAction.do?Home.

(iv) Written requests to consider Fiscal Year 2012 applications for Fiscal Year 2013 funds may be submitted at any time during Fiscal Year 2013, up to and including 4:30 p.m. local time on April 30, 2013. Written requests received after this time and date will not be accepted by the Agency and the applicant's Fiscal Year 2012 application will not be considered for Fiscal Year 2013 funds and be withdrawn.

(2) Balance sheet and income statements. Upon receipt of the balance sheet and income statements required under paragraph F(1)(ii) of this Notice, the Agency will determine whether there is any change to the application's score. If there is a change to the application's score, then the provisions specified in paragraph F(3) apply. If there is no change to the application's score, then the provisions of either paragraph F(3) or F(4) apply as applicable.

(3) Revisions/change in score to Fiscal Year 2012 applications. If an applicant plans to make any revisions to its Fiscal Year 2012 application or if the current balance sheet and income statement submitted under paragraph F(1)(ii) of this Notice results in a change to the application's score (even if no other revisions to the Fiscal Year 2012 application are planned), a new application meeting the requirements of this Notice must be submitted in order to be considered for Fiscal Year 2013 funds and a new submission date of record will be established.

(4) No revisions/changes in score to Fiscal Year 2012 applications. If an applicant does not plan to make any revisions to its Fiscal Year 2012 application and the current balance and income statement submitted under paragraph F(1)(ii) of this Notice does not result in a change to the application's score, a new application is not required and the submission date of record remains unchanged from its original Fiscal Year 2012 submittal date.

G. Award Process

In addition to the process for awarding funding under 7 CFR part 4280, subpart B, the Agency will make awards using the following considerations:

(1) Funding renewable energy system and energy efficiency improvement grant and grant/guaranteed loan awards. Considering the availability of funds, the Agency will fund those grant only applications and grant/guaranteed loan applications that score the highest based on the grant score of the application; that is, the grant score an application receives will be compared to the grant scores of other applications, with higher scoring applications receiving first consideration for funding.

(2) Guaranteed loan only awards. Considering the availability of funds, the Agency will fund those guaranteed loan only applications that score the highest compared to the scores of other applications, with higher scoring applications receiving first consideration for funding.

(3) Evaluation criteria. Agency personnel will score each application based on the evaluation criteria specified in 7 CFR 4280.117(c), 7 CFR 4280.129(c), 7 CFR 4280.178, or 7 CFR 4280.192, as applicable.

For hybrid applications, each technical report will be evaluated and scored based on its own merit. The scores for the technologies will be consolidated using a weighted average approach based on the percentage of the cost for each system to the total eligible project cost.

Example: A hybrid project contains a wind and solar photovoltaic components. The wind system will cost $30,000 (75 percent of total eligible project cost) and the solar will cost $10,000 (25 percent of total eligible project cost). The wind technical report was evaluated and assigned a total score of 22 points, while the solar report was evaluated and assigned a total score of 31 points. In this scenario, the final technical score would be assigned as follows: (22 × 75 percent) + (31 × 25 percent) = 24.25.

(4) Applications that receive the same score. If applications score the same and if remaining funds are insufficient to fund each such application, the Agency may distribute the remaining funds to a lower scoring application. Before this occurs, the Agency will provide the applicant of the higher scoring application the opportunity to reduce the amount of the applicant's request to the amount of funds available. If the applicant agrees to lower its request, the applicant must certify that the purposes of the project will be met and provide the remaining total funds needed to complete the project. At its discretion, the Agency may also elect to allow the remaining funds to be carried over to the next fiscal year rather than selecting a lower scoring application or distributing funds on a pro-rata basis.

VI. Administration Information

A. Notifications

(1) Applicants. The notification provisions of 7 CFR 4280.111 apply to this Notice.

(2) Lenders. The notification provisions of 7 CFR 4280.129(a) apply to this Notice.

B. Administrative and National Policy Requirements

(1) Exception authority. The provisions of 7 CFR 4280.104 apply to this Notice.

(2) Appeals. A person may seek a review of an Agency decision or appeal to the National Appeals Division in accordance with 7 CFR 4280.105.

(3) Conflict of interest. The provisions of 7 CFR 4280.106 apply to this Notice.

(4) USDA Departmental Regulations and other laws that contains other compliance requirements. The provisions of 7 CFR 4280.107 and 7 CFR 4280.108 apply to this Notice.

VII. Agency Contacts

For assistance on this program, please contact a USDA Rural Development Energy Coordinator, as provided in the SUPPLEMENTARY INFORMATION section of this Notice.

VIII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to: USDA, Assistant Secretary for Civil Rights, Office of the Assistant Secretary for Civil Rights, 1400 Independence Avenue SW., Stop 9410, Washington, DC 20250-9410 or call toll-free at (866) 632-9992 (English) or (800) 877-8339 (TDD) or (866) 377-8642 (English Federal-relay) or (800) 845-6136 (Spanish Federal-relay). USDA is an equal opportunity provider and employer.

Dated: February 27, 2013.
Dallas Tonsager,
Under Secretary, Rural Development.

[FR Doc. 2013-07275 Filed 3-28-13; 8:45 am]

BILLING CODE 3410-XY-P